DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 20, 2001.

Interested persons are invited to submit written comments regarding the subject matter of the investigations to the Director, Division of Trade Adjustment Assistance, at the address shown below, not later than February 20, 2001.

The petitions filed in this case are available for inspection at the Office of the Director, Division of Trade Adjustment Assistance, Employment and Training Administration, U.S. Department of Labor, Room C-5311, 200 Constitution Avenue, NW., Washington, DC 20210.

Signed at Washington, DC this 16th day of January, 2001.
Edward A. Tomchick,
Director, Division of Trade Adjustment Assistance.

Appendix
[Petitions instituted on 01/16/2001]
TA-W | Subject firm (petitioners) | Location | Date of petition | Product(s)
38,531 | Owens-BriGam Medical Co (Comp) | Newland, NC | 12/29/2000 | Disposable Anesthesia Supplies.
38,532 | UPG Portland (Comp) | Hillsboro, OR | 12/20/2000 | Telephone Handsets.
38,533 | Spray Cotton Mills (Wrks) | Eden, NC | 12/22/2000 | Cotton Yarn.
38,534 | Hedstrom Lumber Co (Wrks) | Two Harbors, MN | 12/26/2000 | Dimentional Lumber.
38,535 | MelPack, Inc. (Comp) | Mullins, SC | 12/27/2000 | Corrugated Light Bulb Boxes.
38,536 | Crawford Furniture Mfg (Wrks) | New Bethlehem, PA | 12/27/2000 | Bed Room, Dining Room Furniture.
38,537 | Sharp Image Energy (Comp) | Big Spring, TX | 01/05/2001 | Oilfield Drilling.
38,538 | Southern Oregon Log (WCIW) | Roseburg, OR | 01/04/2001 | Log—Scaling.
38,539 | Imperial Spreckels Corp. (Wrks) | Tracy, CA | 12/19/2000 | Sugar—Granulated, Powdered.
38,540 | New York Air Brake (IAMAW) | Watertown, NY | 12/30/2000 | Train Machined Components.
38,541 | Ametek, US Gauge Div. (Comp) | Bartow, FL | 12/21/2000 | Compressed Gas Gauges.
38,542 | Sweetheart Cup Co (Comp) | Springfield, MO | 12/19/2000 | Paper Cups.
38,543 | Hercules, Inc. (Comp) | Parlin, NJ | 01/02/2001 | Nitrocellulose.
38,544 | Bausch and Lomb (Comp) | Sarasota, FL | 12/27/2000 | Toric Contact Lenses.
38,545 | Sappi Fine Paper NA (PACE) | Muskegon, MI | 12/20/2000 | Coated Paper.
38,546 | Tower Electronics (Wrks) | Fridley, MN | 12/21/2000 | Custom Power Supplies.
38,547 | Georgia-Pacific (IBT) | Grand Rapids, MI | 01/05/2001 | Gypsum Wall Board.
38,548 | Timberland Logging (Comp) | Ashland, OR | 12/19/2000 | Lumber.
38,549 | Louisiana Pacific Corp (Comp) | Oroville, CA | 12/15/2000 | Hardboard.
38,550 | Pottstown Precision (UAW) | Stowe, PA | 01/09/2001 | Transmission Parts.
38,551 | Nova Bus, Plant #3 (Wrks) | Roswell, NM | 01/04/2001 | Components—Transit Buses.
38,552 | North Star Steel-Kentucky (USWA) | Calvert City, KY | 12/29/2000 | Steel Channels, Angles, Flats, Plates.
38,553 | Ingersoll Milling Machine (Wrks) | Rockford, IL | 12/18/2000 | Engine Transfer Lines.
38,554 | Lego Systems, Inc. (Comp) | Enfield, CT | 01/04/2001 | Legos.
38,555 | Tee Jays (Wrks) | Florence, AL | 01/03/2001 | T-Shirts.
38,556 | Con-Vey Keystone (USWA) | Roseburg, OR | 01/02/2001 | Material Handling Equipment.
38,557 | Southern Webbing Mills (Wrks) | Greensboro, NC | 12/27/2000 | Elastic for Garments.
38,558 | Clark Metal Products Co (UAW) | Marion, OH | 12/19/2001 | Metal Hardware.
38,559 | Spreckels Sugar Co (UFCW) | Woodland, CA | 01/02/2001 | Sugar.
38,560 | Bayer Corp (USWA) | Elkhart, IN | 01/05/2001 | Alka Seltzer and Alka Seltzer Plus.

[FR Doc. 01-3300 Filed 2-7-01; 8:45am]

BILLING CODE 4510-30-M